DEPARTMENT OF COMMERCE

National Oceanic and Atmospheric Administration

RIN 0648-XE032

Caribbean Fishery Management Council; Public Meeting

AGENCY: National Marine Fisheries Service (NMFS), National Oceanic and Atmospheric Administration (NOAA), Commerce.

ACTION: Notice of a public meeting.

SUMMARY: The Caribbean Fishery Management Council (Council) will hold its 153rd meeting.

DATES: The meeting will be held on August 19-20, 2015. The Council will convene on Wednesday, August 19, 2015, from 9 a.m. to 6 p.m., and will reconvene on Thursday, August 20, 2015, from 9 a.m. to 5 p.m.

ADDRESSES: The meeting will be held at the Holiday Inn & Tropical Casino Mayaguez, 2701 Hostos Avenue, Puerto Rico 00680.

FOR FURTHER INFORMATION CONTACT: Caribbean Fishery Management Council, 270 Muñoz Rivera Avenue, Suite 401, San Juan, Puerto Rico 00918; telephone: (787) 766-5926.

SUPPLEMENTARY INFORMATION: The Council will hold its 153rd regular Council Meeting to discuss the items contained in the following agenda:

August 19, 2015

○ Call to Order

○ Adoption of Agenda

○ Consideration of 152nd Council Meeting Verbatim Transcriptions

○ Executive Director's Report

○ SSC National Workshop Report—Dr. Richard Appeldoorn

○ Island-Based Fishery Management: Choosing Species to be Included for Federal Management Within Each Island Group

• Outcomes from the Panel of Experts and District Advisory Panel Meetings

○ Participation

○ Presentations

• Review Draft List of Species Selected for Management

○ Puerto Rico

○ St. Croix

○ St. Thomas/St. John

• Next Steps in Developing Island Based

○ Action 2—Species Complexes

○ Action 3—Reference Points

○ Other Needed Actions

○ Comprehensive Amendment: Application of Accountability Measures in the Council Fishery Management Plans

• Review Draft Comprehensive Amendment/Select Preferred Alternative

• Final Action/Revisit Codified Text, Including:

○ Clarifying Queen Conch Minimum Size Limits

○ Addition of Accountability Measures-Based Closure Language

—Public Comment Period—

(5-minutes presentations)

5:15 p.m.-6 p.m.

○ Administrative Matters

—Budget Update FY 2015/16

—Other Administrative Business

—Closed Session

August 20, 2015

9 a.m.-10:30 a.m.

○ ABT Public Hearing

10:45 a.m.-5 p.m.

○ Abrir/Bajo/Tourmaline: Revision of Management Regulations in Federal Portion of Each Area

• Review Draft Amendment

• HMS input on requests from CFMC

• Discuss Outcomes of Public Hearing

• Final Action

• Review Codified Text, Including:

Coordinate-Based Definition of State/Federal Closure Boundaries

○ Timing of Accountability Measures-Based Closures Amendment

Review Public Hearing Draft Document/Select Preferred Alternatives

Schedule Public Hearings; Discuss Next Steps

○ Saltonstall-Kennedy Funding Program: Caribbean Projects—Dr. Bonnie Ponwith

○ Outreach and Education Report—Dr. Alida Ortíz

○ Enforcement Issues:

—Puerto Rico-DNER

—U.S. Virgin Islands-DPNR

—U.S. Coast Guard

—NMFS/NOAA

○ Meetings Attended by Council Members and Staff

Public Comment Period (5-minute presentations)

○ Other Business

○ Next Council Meeting

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: July 29, 2015.
Tracey L. Thompson,
Acting Deputy Director, Office of Sustainable Fisheries, National Marine Fisheries Service.

[FR Doc. 2015-18940 Filed 7-31-15; 8:45 am]

BILLING CODE 3510-22-P